DEPARTMENT OF HEALTH AND HUMAN SERVICES

Administration for Children and Families

Submission for OMB Review; Comment Request

Title: Head Start Family and Child Experiences Survey (FACES).

OMB No.: 0970-0151.

Description: The Office of Planning, Research and Evaluation (OPRE), Administration for Children and Families (ACF), U.S. Department of Health and Human Services (HHS), is proposing to collect data for a new round of the Head Start Family and Child Experiences Survey (FACES). Featuring a new “Core Plus” study design, FACES will provide data on a set of key indicators, including information for performance measures. The design allows for more rapid and frequent data reporting (Core studies) and serves as a vehicle for studying more complex issues and topics in greater detail and with increased efficiency (Plus studies).

The FACES Core study will assess the school readiness skills of Head Start children, survey their parents, and ask their Head Start teachers to rate children's social and emotional skills. In addition, FACES will include observations in Head Start classrooms, and program director, center director, and teacher surveys. FACES Plus studies include additional survey content of policy or programmatic interest, and may include additional programs or respondents beyond those participating in the Core FACES study.

Previous notices provided the opportunity for public comment on the proposed Head Start program recruitment and center selection process (FR V. 78, pg. 75569, 12/12/2013; FR V. 79, pg. 8461, 02/12/2014), the child-level data collection in fall 2014 and spring 2015 (FR V. 79, pg. 11445, 02/28/2014; FR V. 79, pg. 27620, 5/14/2014), and the program- and classroom-level spring 2015 data collection activities (FR V. 79, pg. 73077, 12/09/2014). This 30-day notice describes the planned data collection activities for a new Plus study: The American Indian and Alaska Native Head Start Family and Child Experiences Survey (AI/AN FACES), including fall 2015 activities of selecting classrooms and children for the study, conducting child assessments and parent surveys, and obtaining Head Start teacher reports on children's development.

AI/AN FACES fall 2015 data collection includes site visits to 37 centers in 22 Head Start programs to sample classrooms and children for participation in the study. Field enrollment specialists (FES) will request a list of all Head Start funded classrooms from Head Start staff and will ask for the teacher's first and last names, the classroom session type (morning, afternoon, full day, or home visitor), and the number of Head Start children enrolled in each classroom. Then for each selected classroom the FES will request the names and dates of birth of each child enrolled. Approximately two weeks later, field staff will go to the 22 Head Start programs to directly assess the school readiness skills of 800 children sampled to participate in AI/AN FACES. Parents of sampled children will complete surveys on the Web or by telephone about their children, activities family members engage in with their children, and family and household background characteristics. Head Start teachers will rate each sampled child's social and emotional skills (approximately 10 children per classroom) using the Web or paper-and-pencil forms.

The purpose of the Core data collection is to support the 2007 reauthorization of the Head Start program (Pub. L. 110-134), which calls for periodic assessments of Head Start's quality and effectiveness. As additional information collection activities are fully developed, in a manner consistent with the description provided in the 60-day notice (79 FR 11445) and prior to use, we will submit these materials for a 30-day public comment period under the Paperwork Reduction Act.

Respondents: Head Start children, parents of Head Start children, Head Start teachers and Head Start staff.

Annual Burden Estimates—Current Information Collection Request
Instrument | Total number of respondents | Annual number of respondents | Number of responses per respondent | Average burden hour per response | Estimated annual burden hours
Classroom sampling form from Head Start staff | 37 | 12 | 1 | 0.17 | 2
Child roster form from Head Start staff | 37 | 12 | 1 | 0.33 | 4
Head Start parent consent form for Plus study (AI/AN FACES) | 800 | 267 | 1 | 0 .17 | 46
Head Start child assessment for plus study (AI/AN FACES) | 800 | 267 | 2 | 0.75 | 401
Head Start parent survey for plus study (AI/AN FACES) | 800 | 267 | 1 | 0.50 | 134
Head Start teacher child report for plus study (AI/AN FACES) | 80 | 27 | 20 | 0.17 | 92
Total |  |  |  |  | 679

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: OIRA_SUBMISSION@OMB.EOP.GOV, Attn: Desk Officer for the Administration for Children and Families.

Karl Koerper,
OPRE Reports Clearance Officer.

[FR Doc. 2015-12726 Filed 5-26-15; 8:45 am]

BILLING CODE 4184-22-P